DEPARTMENT OF AGRICULTURE

Animal and Plant Health Inspection Service

7 CFR Parts 305 and 319

[Docket No. 02-019-1]

Phytosanitary Treatments; Location of Treatment Schedules and Other Requirements

Correction

In rule document 05-9387 beginning on page 33264 in the issue of Tuesday, June 7, 2005 make the following corrections:

§305.17 [Corrected]

1. On page 33313, in the first column, in §305.17 (b)(2), in the fifth line, after “Cote d'Ivoire” add “Federated States of Micronesia”.

§305.23 [Corrected]

2. On page 33314, in §305.23, inÿ7E the table, under the column “Directions”, in the third entry, “Use 25& Prime vacuum ” should read “Use 25“ Prime vacuum.”

§305.27 [Corrected]

3. On page 33316, in the second column, in §305.27(b), ÿ7Ein the second line, the first sentence should begin with “(1)”.

§319.37-5 [Corrected]

4. On page 33324, in §319.37-5,ÿ7E amendatory instruction 43 should read as follows:

“43. Section 319.37-5 is amended as follows:

a. In paragraph (e), by redesignating footnote 7 as footnote 6.

b. In paragraph (s)(3)(i), by removing the words “the Plant Protection and Quarantine Treatment Manual” and by adding the words “part 305 of this chapter” in their place.”

[FR Doc. C5-9387 Filed 7-14-05; 8:45 am]

BILLING CODE 1505-01-D

FEDERAL COMMUNICATIONS COMMISSION

[CC Docket No. 98-67 and CG Docket No. 03-123; FCC 05-135]

Telecommunications Relay Services and Speech-to-Speech Services for Individuals With Hearing and Speech Disabilities

Correction

In notice document 05-13149 beginning on page 38134 in the issue of Friday, July 1, 2005, make the following correction:

On page 38134, in the second column, under the SUMMARY heading, in the last line, “$6,644” should read “$6.644”.

[FR Doc. C5-13149 Filed 7-14-05; 8:45 am]

BILLING CODE 1505-01-D